DEPARTMENT OF COMMERCE

International Trade Administration

[A-821-809]

Certain Hot-Rolled Carbon Steel Flat Products From the Russian Federation: Correction to the Preliminary Results of the 2016-2017 Administrative Review

AGENCY: Enforcement and Compliance, International Trade Administration, Department of Commerce.

FOR FURTHER INFORMATION CONTACT: John McGowan or Joshua DeMoss, AD/CVD Operations, Office VI, Enforcement and Compliance, International Trade Administration, U.S. Department of Commerce, 1401 Constitution Avenue NW, Washington, DC 20230; telephone: (202) 482-3019 or (202) 482-3362, respectively.

SUPPLEMENTARY INFORMATION: On February 19, 2019, the Department of Commerce (Commerce) published the preliminary results of the 2016-2017 administrative review of the antidumping duty order for certain hot-rolled carbon steel flat products from the Russian Federation. Commerce inadvertently stated it intended to issue the final results of this administrative review no later than 90 days after the date these preliminary results of review were issued, pursuant to section 751(a)(2)(B) of the Tariff Act of 1930 (the Act). Commerce properly intends to publish the final results of this administrative review, including the results of its analysis of issues addressed in any case or rebuttal brief, no later than 120 days after publication of the preliminary results, unless extended.¹ This notice serves as a correction notice.

¹ See section 751(a)(3)(A) of the Act; 19 CFR 351.213(h); see also Certain Hot-Rolled Flat-Rolled Carbon-Quality Steel Products from the Russian Federation: Preliminary Results of Antidumping Duty Administrative Review; 2016-2017, 84 FR 4776 (February 19, 2019).

Dated: April 15, 2019.
Jeffrey I. Kessler,
Assistant Secretary for Enforcement and Compliance.

[FR Doc. 2019-08003 Filed 4-19-19; 8:45 am]

BILLING CODE 3510-DS-P